DEPARTMENT OF LABOR

Mine Safety and Health Administration

Petitions for Modification of Application of Existing Mandatory Safety Standard

AGENCY: Mine Safety and Health Administration, Labor.

ACTION: Notice.

SUMMARY: This notice is a summary of petitions for modification submitted to the Mine Safety and Health Administration (MSHA) by the parties listed below.

DATES: All comments on the petitions must be received by MSHA's Office of Standards, Regulations, and Variances on or before June 22, 2018.

ADDRESSES: You may submit your comments, identified by “docket number” on the subject line, by any of the following methods:

1. Email: zzMSHA-comments@dol.gov. Include the docket number of the petition in the subject line of the message.

2. Facsimile: 202-693-9441.

3. Regular Mail or Hand Delivery: MSHA, Office of Standards, Regulations, and Variances, 201 12th Street South, Suite 4E401, Arlington, Virginia 22202-5452, Attention: Sheila McConnell, Director, Office of Standards, Regulations, and Variances. Persons delivering documents are required to check in at the receptionist's desk in Suite 4E401. Individuals may inspect copies of the petitions and comments during normal business hours at the address listed above.

MSHA will consider only comments postmarked by the U.S. Postal Service or proof of delivery from another delivery service such as UPS or Federal Express on or before the deadline for comments.

FOR FURTHER INFORMATION CONTACT: Barbara Barron, Office of Standards, Regulations, and Variances at 202-693-9447 (Voice), barron.barbara@dol.gov (email), or 202-693-9441 (Facsimile). [These are not toll-free numbers.]

SUPPLEMENTARY INFORMATION: Section 101(c) of the Federal Mine Safety and Health Act of 1977 and Title 30 of the Code of Federal Regulations Part 44 govern the application, processing, and disposition of petitions for modification.

I. Background

Section 101(c) of the Federal Mine Safety and Health Act of 1977 (Mine Act) allows the mine operator or representative of miners to file a petition to modify the application of any mandatory safety standard to a coal or other mine if the Secretary of Labor (Secretary) determines that:

1. An alternative method of achieving the result of such standard exists which will at all times guarantee no less than the same measure of protection afforded the miners of such mine by such standard; or

2. That the application of such standard to such mine will result in a diminution of safety to the miners in such mine.

In addition, the regulations at 30 CFR 44.10 and 44.11 establish the requirements and procedures for filing petitions for modification.

II. Petitions for Modification

Docket Number: M-2018-014-C.

Petitioner: Greenbrier Minerals, LLC, P.O. Box 446, Man, West Virginia 25635.

Mine: Powellton No. 1 Mine, MSHA I.D. No. 46-09217, located in Logan County, West Virginia.

Regulation Affected: 30 CFR 75.310(b)(1) (Installation of main mine fans).

Modification Request: The petitioner requests a modification of the existing standard to allow the Powellton No. 1 Mine to feed power from a new, isolated surface substation via borehole feed to replenish power for future mine advancement and to provide power for the No. 3 Coal Branch fan installation.

The petitioner states that:

(1) Feeding of power will be from an isolated surface substation dedicated only to the borehole feed. This feed circuit will be a three-phase, 12.47 KV High-Voltage Circuit that is run on open wire and poles with neutral and pilot, with the pilot wire mounted on separate insulators the entire length. The system circuit breaker will be controlled by an SEL-501-2 Digital Fault Relay, and wire and cable grounds will be monitored by an MCI 22701 impedance monitor.

(2) A surface Gang Operated Air Break (GOAB) switch is located at the top of the borehole with Lightning Arrestors on each phase. The Lightning Arrestors will be grounded by attaching a 15 KV rated cable that will be placed at a minimum of 25 feet away from the borehole structure or station ground field.

(3) The borehole cable will be a Mine Power Feeder (MPF) constructed cable, 15 KV, 4/0-3 Conductor SHD (Shield) GGC. The cable will be hung by wire messenger and supported at the top rim and every subsequent 100 feet span. All messenger and apparatus at the borehole location will be grounded to the station ground field in accordance with current MSHA, West Virginia Office of Miners HS&T, and applicable NEC Code regulations.

(4) At the exit of the bottom of the borehole, the cable will enter a Mining Controls, Dual Vacuum Breaker Switch House (A). The switch house features AEEI A8200, diode terminated, ground monitors and SEL-751A Digital Fault Relays. It will also feature three phase Tavrida Electric Vacuum Breakers rated 800A, 15KV, 20kAIC.

(5) One circuit from the Dual Vacuum Switch House (A) will be dedicated to feed into a second Dual Vacuum Switch House (B) which will send refreshed power to petitioner's Section 2 and Section 3 Continuous Miner Sections. This switch house features AEEI A8200, diode terminated, ground monitors and SEL-501-2 Digital Fault Relays. It will also feature three phase MCI Electric Vacuum Breakers rated 600A, 15KV, 20kAIC.

(6) The other circuit from the Dual Vacuum Switch House (A) will be dedicated to feed only the fan circuit which is approximately 12,000 feet to the portal. The supplying cable will be a Mine Power Feeder (MPF) constructed cable, 15 KV, 4/0-3 Conductor SHD (Shield) GGC. The cable will be terminated at a Pole Mounted, GOAB Switch with Lightning Arrestors. The lightning arrestors will be grounded by attaching a 15 KV rated cable that will be placed at a minimum of 25 feet away from all station grounds. The pilot and ground will be terminated in an enclosure with an “Emergency Stop” switch located near the fan controls.

(7) Power will enter on the primary side of a set of three 167KVA (12.4KV-Delta X 480V-WYE) pole mounted transformer cans. These cans are fuse protected and have lightning arrestors for each phase. These lightning arrestors will be grounded by attaching a 15 KV rated cable that will be placed at a minimum of 25 feet away from station grounds. The secondary side of the transformers (480V AC) will feed into a (Fully Automated Transfer Switch) and then to the Fan VFD Motor Starter, that will power the 250 horsepower fan motor.

(8) The alternate power source is a Caterpillar Generator XQ300-C9 (300 KW) feeding the fully automatic transfer switch 480V AC power anytime there is a power interruption. The generator will start, the transfer switch will switch to generator supplied power, and the whole process takes approximately 39 seconds for the fan to be running at the set capacity. The generator has a fuel tank capacity of 430 gallons and the fan has a fuel consumption rate of 18.6 gallons per hour. Therefore, the fan can run from the generator for approximately 23 hours from the onboard tank. There is also an additional supply tank to fill the generator tank that holds 1,000 gallons of fuel, providing an additional run time of 53 hours plus. This will allow time to troubleshoot, repair, test, and reenergize the High-Voltage Feeder Circuit or have additional fuel delivered to the site.

(9) All normal backup notification systems will be installed including radio remote warning signals that the fan is not running, fiber-optic communication, and security cameras monitoring the site.

(10) The petitioner operates the affected underground coal mine which additional power feeds are required to replenish power to two working sections and supply power to the #3 Coal Branch Fan Installation.

(11) The #3 Coal Branch Fan will be installed to meet Ventilation Plan requirements as set forth in petitioner's Ventilation Plan.

(12) There is no Three-Phase Utility Power of any voltage available within 9.5 miles.

(13) The borehole location is very remote, approximately 2.2 miles from the substation location, thus would be considered a security risk for damage should the substation be placed there. Mine personnel can be at the borehole location in approximately 45 minutes vs. 5 minutes travel to the current location that is located behind the Preparation Plant of the Main Substation.

(14) Mining is being conducted by another mining company which intersects with Greenbrier Minerals property line. Petitioner states that it could get right of way to build across the other company property line but in subsequent years would have to move two sections of power line, and our substation would be in a blasting area that could lead to damage from flying debris, air-shock, and ground vibrations.

(15) The petitioner requests that the Powellton #1 Mine be allowed to feed both mine power systems and petitioner's #3 Coal Branch Fan Installation on one system where such occurrences of a fault trip on the main feed would be kept to a minimum by utilizing the dual series vacuum breaker configuration. In those rare instances where the dual vacuum breaker configuration should fail, petitioner has included a fully automatic system with a transfer switch and generator that will restore power to the #3 Coal Branch Fan in less than one minute.

(16) The proposed modification would not only ensure operable ventilation, it would also ensure through weekly functional testing that the alternate power supply would function as intended and adequately maintain mine ventilation.

The petitioner asserts that the proposed alternative method will achieve the purpose of the existing standard and will always guarantee no less than the same measure of protection afforded by the standard.

Docket Number: M-2018-005-M.

Petitioner: Solvay Chemicals, Inc., P.O. Box 1167, 400 County Road 85, Green River, Wyoming 82935.

Mine: Solvay Chemicals, Inc. Mine, MSHA I.D. No. 48-01295, located in Sweetwater County, Wyoming.

Regulation Affected: 30 CFR 57.4760(a) (Shaft mines).

Modification Request: The petitioner states that the fire control doors located near the #3 shaft in this Class III Gassy Mine presents a diminution of safety to the miners because the installation of control doors or the reversal of mechanical ventilation would affect the main air currents and splits, thus adversely impacting the ventilation system's ability to render and dilute concentrations of toxic gases or methane gas. Additionally, the installation of control doors or the reversal of mechanical ventilation can only be achieved by shutting down the mine's main exhaust fans. Due to the expanse of the mine, evacuation of all personnel underground to the surface in ten minutes or less is not an alternative means of compliance with the standard.

The petitioner seeks to remove the fire control doors and requests a modification of the existing standard to permit the use of alternative controls in lieu of the installation of control doors.

The petitioner states that:

(1) It requests a modification of 30 CFR 57.4760(a), that authorizes the petitioner to establish an alternative method in lieu of the mandatory safety standard. The petitioner considers the following alternatives to the installation of control doors as acceptable means to control the spread of fire, smoke, and toxic gases underground in the event of a fire specific to the petitioner's mine:

(a) The petitioner currently has four shafts constructed of non-combustible materials. All four existing shafts will be provided with a means of hoisting mine personnel. At all times, two properly maintained escapeways to the surface from the lowest levels will be maintained.

(b) Conveyor belting used underground will be 2G compliant or meet the equivalent flame spread rating.

The petitioner asserts that application of the existing standard will result in a diminution of safety to the miners and that the proposed alternative method will provide the same measure of protection afforded by the standard.

Sheila McConnell,
Director, Office of Standards, Regulations, and Variances.

[FR Doc. 2018-11037 Filed 5-22-18; 8:45 am]

BILLING CODE 4520-43-P